DEPARTMENT OF JUSTICE

Notice of Lodging of Proposed Consent Decree

In accordance with Departmental Policy, 28 CFR 50.7, notice is hereby given that a proposed Consent Decree in United States of America et al. v. The Boeing Company, Civil Action No. 10-758 (W.D. Wa.), was lodged with the United States District Court for the Western District of Washington on May 4, 2010. The proposed Consent Decree settles claims for natural resource damages caused by hazardous substances released from Boeing facilities along the Duwamish Waterway.

The complaint asserts claims by the United States on behalf of the National Oceanic and Atmospheric Administration and the Department of the Interior; the State of Washington; the Suquamish Tribe; and the Muckleshoot Indian Tribe (the Natural Resource Trustees) pursuant to the section 107(a) of the Comprehensive Environmental Response, Compensation, and Liability Act (CERCLA), 42 U.S.C. 9607(a); section 311 of the Clean Water Act (CWA), 33 U.S.C. 1321; section 1002(b) of the Oil Pollution Act (OPA), 33 U.S.C. 2702(b); and the Model Toxics Control Act (MTCA), RCW 70.105D.

Under the proposed Consent Decree, Boeing will create habitat for out-migrating juvenile salmon making their transition from fresh water to salt water, as well as other fish and bird species. The restoration projects will be built at the current location of Boeing's Plant 2 on the Duwamish River and will cover over one-half linear mile of waterway. Boeing also will repay almost $2 million of the Natural Resource Trustees' costs expended to date, will pay the Natural Resource Trustees' future costs of overseeing the restoration projects, and will establish a permanent stewardship fund for the projects.

The Department of Justice will receive written comments relating to the proposed Consent Decree for a period of thirty (30) days from the date of publication of this notice. Comments should be addressed to the Assistant Attorney General, Environment and Natural Resources Division, and either e-mailed to pubcomment-ees.enrd@usdoj.gov or mailed to P.O. Box 7611, U.S. Department of Justice, Washington, DC 20044-7611, and should refer to United States of America et al. v. The Boeing Company, DJ Reference No. 90-11-3-07227/1.

The Consent Decree may be examined at the Office of the United States Attorney, Western District of Washington, Office of the United States Attorney for the Western District of Washington, 5200 United States Courthouse, 700 Stewart Street, Seattle, WA 98101-1271. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $26.75 (25 cents per page reproduction cost) payable to the United States Treasury or, if requesting by e-mail or fax, forward a check in that amount to the Consent Decree Library at the stated address.

Maureen Katz,
Assistant Section Chief, Environmental Enforcement Section, Environment and Natural Resources Division, United States Department of Justice.

[FR Doc. 2010-11115 Filed 5-10-10; 8:45 am]

BILLING CODE 4410-15-P